FEDERAL ELECTION COMMISSION

[Notice 2005-31]

Filing Dates for the California Special Election in the 50th Congressional District

AGENCY: Federal Election Commission.

ACTION: Notice of filing dates for special election.

SUMMARY: California has scheduled a special general election on April 11, 2006, to fill the U.S. House of Representatives seat in the Fiftieth Congressional District vacated by Representative Randy “Duke” Cunningham. Under California law, a majority winner in a special election is declared elected. Should no candidate achieve a majority vote, a special runoff election will be held on June 6, 2006, among the top vote-getters of each qualified political party, including qualified independent candidates.

Committees participating in the California special elections are required to file pre- and post-election reports. Filing dates for these reports are affected by whether one or two elections are held.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the California Special General and Special Runoff Elections shall file a 12-day Pre-General Report on March 30, 2006; a Pre-Runoff Report on May 25, 2006; and a consolidated Post-Runoff & July Quarterly Report on July 15, 2006. (See chart below for the closing date for each report).

If only one election is held, all principal campaign committees of candidates in the Special General Election shall file a 12-day Pre-General Report on March 30, 2006; and a Post-General Report on May 11, 2006. (See chart below for the closing date for each report).

Unauthorized Committees (PACs and Party Committees)

Political committees filing on a quarterly basis in 2006 are subject to special election reporting if they make previously undisclosed contributions or expenditures in connection with the California Special General or Special Runoff Elections by the close of books for the applicable report(s). (See chart below for the closing date for each report).

Committees filing monthly that support candidates in the California Special General or Special Runoff Election should continue to file according to the monthly reporting schedule.

Disclosure of Electioneering Communications (Individuals and Other Unregistered Organizations)

As required by the Bipartisan Campaign Reform Act of 2002, the Federal Election Commission promulgated new electioneering communications rules governing television and radio communications that refer to a clearly identified federal candidate and are distributed within 60 days prior to a special general election (including a special general runoff). 11 CFR 100.29. The statute and regulations require, among other things, that individuals and other groups not registered with the FEC who make electioneering communications costing more than $10,000 in the aggregate in a calendar year disclose that activity to the Commission within 24 hours of the distribution of the communication. See 11 CFR 104.20.

The 60-day electioneering communications period in connection with the California Special General runs from February 10, 2006 through April 11, 2006. The 60-day electioneering communications period in connection with the California Special Runoff runs from April 7, 2006 through June 6, 2006.

Calendar of Reporting Dates for California Special Election
Report | Close of books ¹ | Reg./Cert. & overnight mailing date | Filing date
If Only The Special General Is Held (04/11/06), Committees Involved Must File:
Pre-General | 03/22/06 | 03/27/06 | 03/30/06
April Quarterly | 03/31/06 | 04/15/06 | 04/15/06 ²
Post-General | 05/01/06 | 05/11/06 | 05/11/06
July Quarterly | 06/30/06 | 07/15/06 | 07/15/06 ²
If Two Elections Are Held, Committees Involved Only In The Special General (04/11/06) Must File:
Pre-General | 03/22/06 | 03/27/06 | 03/30/06
April Quarterly | 03/31/06 | 04/15/06 | 04/15/06 ²
Committees Involved In The Special General (04/11/06) And Special Runoff (06/06/06) Must File:
Pre-General | 03/22/06 | 03/27/06 | 03/31/06
April Quarterly | 03/31/06 | 04/15/06 | 04/15/06 ²
Pre-Runoff | 05/17/06 | 05/22/06 | 05/25/06
Post-Runoff & July Quarterly ³ | 06/30/06 | 07/15/06 | 07/15/06 ²
Committees Involved Only In The Special Runoff (06/06/06) Must File:
Pre-Runoff | 05/17/06 | 05/22/06 | 05/25/06
Post-Runoff & July Quarterly ³ | 06/30/06 | 07/15/06 | 07/15/06 ²
¹ The period begins with the close of books of the last report filed by the committee. If the committee has filed no previous reports, the period begins with the date of the committee's first activity.
² Notice that this deadline falls on a holiday or a weekend. Filing dates are not extended when they fall on nonworking days.
³ Committees should file a consolidated Post-Runoff and July Quarterly Report by the filing date of the July Quarterly Report.

Dated: December 29, 2005.
Scott E. Thomas,
Chairman, Federal Election Commission.

[FR Doc. E6-42 Filed 1-6-06; 8:45 am]

BILLING CODE 6715-01-P